DEPARTMENT OF DEFENSE

Office of the Secretary

[Transmittal No. 25-92]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-92, Policy Justification, and Sensitivity of Technology.

Dated: February 5, 2026.
Stephanie J. Bost,
Alternate OSD Federal Register Liaison Officer, Department of Defense.

BILLING CODE 6001-FR-P

BILLING CODE 6001-FR-C

Transmittal No. 25-92

Notice of Proposed Issuance of Letter of Offer Pursuant to Section 36(b)(1) of the Arms Export Control Act, as amended

(i) Prospective Purchaser: Government of Belgium

(ii) Total Estimated Value:

Major Defense Equipment * | $67 million
Other | $12 million
TOTAL | $79 million

(iii) Description and Quantity or Quantities of Articles or Services under Consideration for Purchase:

Major Defense Equipment (MDE):

Up to two hundred forty (240) Hellfire missiles (AGM-114R2)

Non-Major Defense Equipment:

The following non-MDE items are also included: United States (U.S.) Government and contractor engineering, technical, and logistics support services; support equipment; communications and training equipment; ammunition, spare parts, consumables, accessories, and repair and return support; facility design; classified and unclassified publications; technical documentation; personnel training and training equipment; studies and surveys; and other related elements of logistics and program support.

(iv) Military Department: Army (BE-B-WDR)

(v) Prior Related Cases, if any: None

(vi) Sales Commission, Fee, etc., Paid, Offered, or Agreed to be Paid: None known at this time

(vii) Sensitivity of Technology Contained in the Defense Article or Defense Services Proposed to be Sold: See Attached Annex

(viii) Date Report Delivered to Congress: December 8, 2025

* as defined in Section 47(6) of the Arms Export Control Act.

POLICY JUSTIFICATION

Belgium—Hellfire Missiles

The Government of Belgium has requested to buy up to two hundred forty (240) Hellfire missiles (AGM-114R2). The following non-MDE items will also be included: U.S. Government and contractor engineering, technical, and logistics support services; support equipment; communications and training equipment; ammunition, spare parts, consumables, accessories, and repair and return support; facility design; classified and unclassified publications; technical documentation; personnel training and training equipment; studies and surveys; and other related elements of logistics and program support. The estimated total cost is $79 million.

This proposed sale will support the foreign policy and national security objectives of the U.S. by improving the security of a NATO Ally which is an important force for political stability and economic progress in Europe.

The proposed sale will improve Belgium's combat capability for counterterrorism operations. Belgium is a long-time operator of several advanced air-to-ground munitions via its F-35 and F-16 programs. Belgium will have no difficulty absorbing these articles and services into its armed forces.

The proposed sale of this equipment and support will not alter the basic military balance in the region.

The principal contractor will be Lockheed Martin Corporation, located in Troy, AL. At this time, the U.S. Government is not aware of any offset agreement proposed in connection with this potential sale. Any offset agreement will be defined in negotiations between the purchaser and the contractor.

Implementation of this proposed sale will not require the assignment of any additional U.S. Government or contractor representatives to Belgium.

There will be no adverse impact on U.S. defense readiness as a result of this proposed sale.

Transmittal No. 25-92

Notice of Proposed Issuance of Letter of Offer Pursuant to Section 36(b)(1) of the Arms Export Control Act

Annex

Item No. vii

(vii) Sensitivity of Technology:

1. Hellfire missiles (AGM-114R2) are used against heavy and light armored targets, thin-skinned vehicles, urban structures, bunkers, caves, and personnel. The missile is inertial measurement unit based, with a variable delay fuse and improved safety and reliability. Loss or compromise of classified information associated with AGM-114R2 could lead to development of countermeasures or exploitation of system vulnerabilities by those obtaining the information.

2. The highest level of classification of defense articles, components, and services included in this potential sale is SECRET.

3. If a technologically advanced adversary were to obtain knowledge of the specific hardware and software elements, the information could be used to develop countermeasures that might reduce system effectiveness or be used in the development of a system with similar or advanced capabilities.

4. A determination has been made that Belgium can provide substantially the same degree of protection for the sensitive technology being released as the U.S. Government. This proposed sale is necessary in furtherance of the U.S. foreign policy and national security objectives outlined in the Policy Justification.

5. All defense articles and services listed in this transmittal have been authorized for release and export to the Government of Belgium.

[FR Doc. 2026-02530 Filed 2-6-26; 8:45 am]

BILLING CODE 6001-FR-P